DEPARTMENT OF TRANSPORTATION

National Highway Traffic Safety Administration

[Docket No. NHTSA-2018-0005; Notice 1]

Hino Motors, Ltd., Receipt of Petition for Decision of Inconsequential Noncompliance

AGENCY: National Highway Traffic Safety Administration (NHTSA), Department of Transportation (DOT).

ACTION: Receipt of petition.

SUMMARY: Hino Motors Sales USA, Inc., a wholly owned subsidiary of Hino Motors, Ltd. (collectively referred to as “Hino”), has determined that certain model year (MY) 2014-2018 Hino heavy duty trucks do not fully comply with Federal Motor Vehicle Safety Standard (FMVSS) No. 101, Controls and Displays. Hino filed a noncompliance report dated December 11, 2017, and subsequently petitioned NHTSA on December 21, 2017, for a decision that the subject noncompliance is inconsequential as it relates to motor vehicle safety.

DATES: The closing date for comments on the petition is March 26, 2018.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE, Washington, DC 20590.

• Hand Delivery: Deliver comments by hand to U.S. Department of Transportation, Docket Operations, M-30, West Building Ground Floor, Room W12-140, 1200 New Jersey Avenue SE, Washington, DC 20590. The Docket Section is open on weekdays from 10 a.m. to 5 p.m. except Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: Hino has determined that certain MY 2014-2018 Hino heavy duty trucks do not fully comply with the requirements of Table 2 of FMVSS No. 101, Controls and Displays (49 CFR 571.101). Hino filed a noncompliance report dated December 11, 2017, pursuant to CFR part 573, Defect and Noncompliance Responsibility and Reports, and subsequently petitioned NHTSA on December 21, 2017, pursuant to 49 U.S.C. 30118(d) and 30120(h) and 49 CFR part 556, for an exemption from the notification and remedy requirements of 49 U.S.C. Chapter 301 on the basis that this noncompliance is inconsequential as it relates to motor vehicle safety.

This notice of receipt of their petition is published under 49 U.S.C. 30118 and 30120 and does not represent any agency decision or other exercise of judgment concerning the merits of the petition.

II. Vehicles Involved: Approximately 30,025 MY 2014-2018 Hino NJ8J, NV8J, and NH8J heavy duty trucks, manufactured between September 1, 2013, and October 30, 2017, are potentially involved.

III. Noncompliance: Hino describes the noncompliance as the omission of the words “Brake Air” for the Low Brake Air Pressure telltale as required in Table 2 of FMVSS No. 101.

IV. Rule Requirements: Paragraphs S5 and S5.2.1 as well as Table 2 of FMVSS No. 101, include the requirements relevant to this petition:

• Each passenger car, multipurpose passenger vehicle, truck and bus that is fitted with a control, a telltale, or an indicator must meet the requirements listed in Table 1 or Table 2 of FMVSS No. 101 for the location, identification, color, and illumination of that control, telltale or indicator.

• Each control, telltale and indicator that is listed in column 1 of Table 1 or Table 2 of FMVSS No. 101 must be identified by the symbol specified for it in column 2 or the word or abbreviation specified for it in column 3 of Table 1 or Table 2.

V. Summary of Petition: Hino described the subject noncompliance and stated its belief that the noncompliance is inconsequential as it relates to motor vehicle safety.

In support of its petition, Hino submitted the following reasoning:

1. Hino notes that the purpose of the low brake air pressure telltale is to alert the driver to a low air condition, consistent with the requirements of FMVSS No. 121, S5.1.5 (warning signal). The ISO symbol for brake system malfunction together with an audible alert that occurs in the subject vehicles would alert the driver to an air issue with the brake system. Once alerted, the driver can check the actual air pressure by reading the front and rear air gauges and seeing the red contrasting color on the gauges indicating low pressure.

2. When the air pressure drops below 79 psi, the ISO symbol illuminates and the audible alert sounds, both of which are described in the Driver's/Owner's Manual of the subject vehicles. Therefore, even if the telltale is not “BRAKE AIR,” it is possible for the driver to be alerted that the air pressure is low.

3. There are two scenarios when a low brake air pressure condition could exist: A parked vehicle and a moving vehicle. In both conditions, the driver would be alerted to a low-air condition by the following means:

• Red contrasting color of the ISO symbol

• Audible alert to the driver as long as the vehicle has low air (and park brake is released)

• Air pressure gauges for the front and rear air reservoirs clearly indicating the level of air pressure in the system

• Red contrasting color on the air gauges indicating low air pressure

The functionality of both the parking brake system and the service brake system remains unaffected by using the ISO symbol for brake malfunction instead of “Brake Air” for the telltale in the subject vehicles.

4. NHTSA Precedents—Hino notes that NHTSA has previously granted petitions for decisions of inconsequential noncompliance for similar brake telltale issues:

(a) Docket No. NHTSA-2017-0011, 82 FR 33551 (July 20, 2017), grant of petition for Daimler Trucks North America, LLC.

(b) Docket No. NHTSA-2014-0046, 79 FR 78559 (December 30, 2014), grant of petition for Chrysler Group, LLC

(c) Docket No. NHTSA-2012-0004, 78 FR 69931 (November 21, 2013), grant of petition for Ford Motor Company.

In these instances, the vehicles displayed an ISO symbol for the brake telltale instead of the wording required under FMVSS No. 101. The ISO symbol in combination with other available warnings was deemed sufficient to provide the necessary driver warnings.

Hino concluded by expressing the belief that the subject noncompliance is inconsequential as it relates to motor vehicle safety, and that its petition to be exempted from providing notification of the noncompliance, as required by 49 U.S.C. 30118, and a remedy for the noncompliance, as required by 49 U.S.C. 30120, should be granted.

To view Hino's petition analyses in their entirety you can visit https://www.regulations.gov by following the online instructions for accessing the dockets and by using the docket ID number for this petition shown in the heading of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Hino no longer controlled at the time it determined that the noncompliance existed. However, any decision on this petition does not relieve vehicle distributors and dealers of the prohibitions on the sale, offer for sale, or introduction or delivery for introduction into interstate commerce of the noncompliant vehicles under their control after Hino notified them that the subject noncompliance existed.

Authority: 49 U.S.C. 30118, 30120: delegations of authority at 49 CFR 1.95 and 501.8.

Jeffrey M. Giuseppe,
Associate Administrator for Enforcement.

[FR Doc. 2018-03678 Filed 2-21-18; 8:45 am]

BILLING CODE 4910-59-P